DEPARTMENT OF ENERGY

Federal Energy Regulatory Commission

18 CFR Part 35

[Docket No. RM18-9-000; Order No. 2222]

Participation of Distributed Energy Resource Aggregations in Markets Operated by Regional Transmission Organizations and Independent System Operators

Correction

In rule document 2020-20973 beginning on page 67094 in the issue of Wednesday, October 21, 2020, make the following correction:

On page 67094, in the second column, in the 16th line, “September 17, 2021” should read “July 19, 2021”.

[FR Doc. C1-2020-20973 Filed 10-28-20; 8:45 am]

BILLING CODE 1301-00-D